SMALL BUSINESS ADMINISTRATION

[License No. 06060345]

Diamond State Ventures III, LP; Surrender of License of Small Business Investment Company

Pursuant to the authority granted to the United States Small Business Administration under Section 309 of the Small Business Investment Act of 1958, as amended, and 13 CFR 107.1900 of the Code of Federal Regulations to function as a small business investment company under the Small Business Investment Company license number 06060345 issued to Diamond State Ventures III, LP said license is hereby declared null and void.

Paul Salgado,
Director, Investment Portfolio Management, Office of Investment and Innovation.

[FR Doc. 2025-23304 Filed 12-17-25; 8:45 am]

BILLING CODE P